DEPARTMENT OF TRANSPORTATION

Federal Aviation Administration

Notice of Record of Decision on the Final Environmental Impact Statement that Evaluated the Proposed Airfield Improvement Project at Palm Beach International Airport, Palm Beach County, FL

AGENCY: Federal Aviation Administration (FAA), DOT.

ACTION: Notice of Availability of Record of Decision.

SUMMARY: The FAA is issuing this notice of availability to advise the public and interested parties that it has issued a Record of Decision (ROD) for the Final Environmental Impact Statement (FEIS) for the Airfield Improvement Project (AIP) at Palm Beach International Airport (PBIA). The ROD contains the FAA's Findings, Conditions of Approval, and Final Decision and Order with regard to the unconditional Airport Layout Plan (ALP) approval of the Near-Term AIP. This unconditional ALP approval will allow Palm Beach County—the Airport Sponsor—to proceed with the development of the Near-Term AIP pending the receipt of all State of Florida and local government approvals and funding. The ROD also discloses that the FAA has determined that the Long-Term AIP (the Runway 10R/28L airfield capacity enhancement project and its connected actions) are not ripe for decision at this time. The ROD grants only conditional ALP approval of the Long-Term AIP. This conditional ALP approval of the Long-Term AIP does not grant the Airport Sponsor the Federal approvals needed to construct the Long-Term AIP at this time.

FOR FURTHER INFORMATION CONTACT: Mr. Allan Nagy, Environmental Program Specialist, Federal Aviation Administration, Orlando Airports District Office, 5950 Hazeltine National Drive, Suite 400, Orlando, Florida 32822, Telephone (407) 812-6331.

SUPPLEMENTARY INFORMATION: The FAA published a Federal Register Notice of Availability of the FEIS on February 4, 2011 (77 FR 6510). The FEIS was prepared in compliance with the National Environmental Policy Act of 1969 (NEPA) [42 U.S.C. 4321, et seq.], the implementing regulations of the Council on Environmental Quality (CEQ) [40 CFR parts 1500-1508], and FAA directives [Order 1050.1E and Order 5050.4B].

During the EIS process, the FAA coordinated extensively with Federal, state, and local agencies; Native American Nations/Tribes; local municipalities; and the public. This coordination included, but was not limited to: the United States (U.S.) Environmental Protection Agency (EPA), the U.S. Fish and Wildlife Service (USFWS), the National Marine Fisheries Service (NMFS), the Poarch Band of Creek Indians, the Muscogee (Creek) Nation, the Seminole Nation of Oklahoma, the Seminole Tribe of Florida, the Miccosukee Tribe of Indians of Florida, the Florida Department of Transportation (FDOT), the Florida Department of Environmental Protection (FDEP), Palm Beach County, the City of West Palm Beach, the Town of Palm Beach, and other local municipalities. The FAA undertook and completed Section 106 consultation in accordance with the National Historic Preservation Act (NHPA) and the provisions at 36 CFR part 800, subpart B, Protection of Historic Properties. This consultation was conducted between the FAA, the Florida Division of Historic Resources (Florida State Historic Preservation Officer (SHPO)) and the Keeper of the National Register of Historic Places (NRHP). The FAA also coordinated extensively with other stakeholders, including representatives of local homeowner associations (HOAs) and the general public to facilitate the understanding and consideration of key issues, the Agency's policies and procedures, and the proposed actions being undertaken by both the Airport Sponsor and the FAA. The FAA actively solicited comments on the FEIS for an extended period of 45-days after its publication. Public and agency comments on the FEIS, as well as the FAA's responses to substantive comments on the FEIS, are included in Appendix A of the ROD.

In the ROD, the FAA has identified the Near-Term AIP as the Agency's Selected Alternative. The FAA's decision on the Selected Alternative was based on a comparative analysis and examination of the potential environmental, social, and economic impacts for each of the alternatives evaluated in detail in the FEIS. The FAA has determined that the Near-Term AIP is safe and efficient; that it would not result in significant environmental impacts and that it is justified for implementation by the Airport Sponsor at this time. The Near-Term AIP consists of following projects: (1) General Aviation (GA) facility development in the northwest quadrant of the airfield, (2) widening Taxiway “L” from 50 feet to 75 feet along the full length of Runway 10L/28R, and (3) acquisition of 13.2 acres of property on the east side of Military Trail, between the roadway right of-way and the airports' existing western property line. With respect to the Long-Term AIP, which consists of the Runway 10R/28L expansion project and its connected actions, the FAA has determined that the Long-Term AIP is not ripe for final approval at this time and, therefore, this component of the AIP was granted only conditional ALP approval in the ROD. This conditional ALP approval of the Long-Term AIP does not grant the Airport Sponsor the Federal approvals needed to construct the Long-Term AIP at this time.

Availability of ROD: Copies of the ROD and FEIS are available at the following locations during normal business hours:

• Palm Beach County Library Greenacres Branch, 3750 Jog Road, Greenacres, FL 33467.

• Palm Beach County Library Okeechobee Boulevard Branch, 5689 West Okeechobee Boulevard, West Palm Beach, FL 33417.

• West Palm Beach Public Library, 411 Clematis Street, West Palm Beach, FL 33401.

• Federal Aviation Administration, Orlando Airports District Office, 5950 Hazeltine National Drive Citadel International Building, Suite 400, Orlando, Florida. Contact Allan Nagy at (407) 812-6331.

• Palm Beach International Airport, Palm Beach County Department of Airports, 846 Palm Beach International Airport, West Palm Beach, Florida. Contact Gary Sypek at (561) 471-7412.

An electronic copy of the ROD (and FEIS) will be available for download from the EIS Web site (www.pbia-eis.com) beginning on July 13, 2012.

Issued in Orlando, Florida on July 2, 2012.
Martin Polomski,
Acting Manager, Orlando Airports District Office, Federal Aviation Administration.

[FR Doc. 2012-17280 Filed 7-13-12; 8:45 am]

BILLING CODE P